DEPARTMENT OF HEALTH AND HUMAN SERVICES

Administration on Aging

Agency Information Collection Activities; Proposed Collection; Comment Request; the Evaluation of the Aging and Disability Resource Center Program

AGENCY: Administration on Aging, HHS.

ACTION: Notice.

SUMMARY: The Administration on Aging (AoA) is announcing an opportunity for public comment on the proposed collection of certain information by the agency. Under the Paperwork Reduction Act of 1995 (the PRA), Federal agencies are required to publish notice in the Federal Register concerning each proposed collection of information, including each proposed extension of an existing collection of information, and to allow 60 days for public comment in response to the notice. This notice solicits comments on the information collection requirements relating to the Evaluation of the Aging and Disability Resource Center Program.

DATES: Submit written or electronic comments on the collection of information by December 13, 2011.

ADDRESSES: Submit electronic comments on the collection of information to: Susan Jenkins at Susan.Jenkins@aoa.hhs.gov.

Submit written comments on the collection of information to Administration on Aging, Washington, DC 20201, Attn. Susan Jenkins.

FOR FURTHER INFORMATION CONTACT: Susan Jenkins at 202.357.3591.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency request or requirements that members of the public submit reports, keep records, or provide information to a third party. Section 3506(c)(2)(A) of the PRA (44 U.S.C. 3506(c)(2)(A)) requires Federal agencies to provide a 60-day notice in the Federal Register concerning each proposed collection of information, including each proposed extension of an existing collection of information, before submitting the collection to OMB for approval. To comply with this requirement, AoA is publishing notice of the proposed collection of information set forth in this document. With respect to the following collection of information, AoA invites comments on: (1) Whether the proposed collection of information is necessary for the proper performance of AoA's functions, including whether the information will have practical utility; (2) the accuracy of AoA's estimate of the burden of the proposed collection of information, including the validity of the methodology and assumptions used; (3) ways to enhance the quality, utility, and clarity of the information to be collected; and (4) ways to minimize the burden of the collection of information on respondents, including through the use of automated collection techniques when appropriate, and other forms of information technology. The Aging and Disability Resource Center (ADRC) Program is a collaborative effort of the Administration on Aging (AoA) and the Centers for Medicare & Medicaid Services (CMS). ADRCs target services to the elderly and individuals with physical disabilities, serious mental illness, and/or developmental/intellectual disabilities. The ultimate goal of the ADRCs is to serve all individuals with long-term care needs regardless of their age or disability. The statutory authority for the ADRC grant program is contained in Titles II and IV of the Older Americans Act (OAA) (42 U.S.C. 3032), as amended by the Older Americans Act Amendments of 2006, Public Law 109-365. (Catalog of Federal Domestic Assistance 93.048, Title IV Discretionary Projects). 42 U.S.C. 3017 specifies that the Assistant Secretary for Aging “shall measure and evaluate the impact of all programs authorized by this chapter * * * Evaluations shall be conducted by persons not immediately involved in the administration of the program or project evaluated.” This new collection of information is necessary to determine the overall effect of ADRCs on both long term support and service systems and individuals. AoA will gather information about how ADRCs provide services and whether consumers, who access ADRCs, as compared to consumers who access other systems, report that the experience is more personalized, consumer-friendly, streamlined, and efficient. Staff of the Administration on Aging's Office of Program Innovation and Demonstration will use the information to both determine the value of the ADRC model and to improve program operations. The evaluation will include both process and outcome components. The Agency Data Collection Tool requests respondents' names and contact information to allow the research team to contact potential respondents. The Personal Experience Survey will collect information about consumers' level and type of disability, and demographic characteristics including race and living status. Respondents will be asked to provide their Medicare and/or Medicaid identification numbers to allow for analysis of the effect of the ADRC program on heath care utilization and nursing home diversion. The proposed data collection tools may be found on the AoA Web site: [INSERT WEB ADDRESS WHEN DETERMINED]. AoA estimates the burden of this collection at 1,732 hours for individuals and 1,294 hours for organizations—Total Burden for Study 3,026.

Dated: October 7, 2011.
Kathy Greenlee,
Assistant Secretary for Aging.

[FR Doc. 2011-26552 Filed 10-13-11; 8:45 am]

BILLING CODE 4154-01-P